DEPARTMENT OF COMMERCE

National Oceanic and Atmospheric Administration

[I.D.120700B]

Endangered Species; Permits

AGENCY: National Marine Fisheries Service (NMFS), National Oceanic and Atmospheric Administration (NOAA), Commerce.

ACTION: Receipt of application to modify permits (1201).

SUMMARY: Notice is hereby given of the following actions regarding permits for takes of endangered and threatened species for the purposes of scientific research and/or enhancement: NMFS has received applications for permit modifications from: Dr. Thane Wibbels, University of Alabama at Birmingham (1201).

DATES: Comments or requests for a public hearing on any of the new applications or modification requests must be received at the appropriate address or fax number no later than 5 p.m. eastern standard time on January 16, 2001.

ADDRESSES: Written comments on any of the new applications or modification requests should be sent to the appropriate office as indicated below. Comments may also be sent via fax to the number indicated for the application or modification request. Comments will not be accepted if submitted via e-mail or the Internet. The applications and related documents are available for review in the indicated office, by appointment: For permits 1201: Office of Protected Resources, Endangered Species Division, F/PR3, 1315 East-West Highway, Silver Spring, MD 20910 (ph: 301-713-1401, fax: 301-713-0376).

FOR FURTHER INFORMATION CONTACT: For permits 1201: Terri Jordan, Silver Spring, MD (ph: 301-713-1401, fax: 301-713-0376, e-mail: Terri.Jordan@noaa.gov).?????

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice: Sea Turtles

The following species and evolutionarily significant units (ESU's) are covered in this notice:

Green turtle (Chelonia mydas), Kemp's ridley turtle (Lepidochelys kempii), Loggerhead turtle (Caretta caretta).

Modification Requests Received

Permit #1201

The applicant requests a modification to Permit 1201. Permit 1201 authorizes the sampling for and collection of green, loggerhead and Kemp's ridley turtles in the estuaries of Alabama in the Northern Gulf of Mexico. The purpose of the research is to evaluate the abundance, movements, and location of juvenile sea turtles in the estuaries of Alabama, to potentially identify specific foraging areas. The presence of juvenile sea turtles in estuaries represents a potential conflict for fisheries and coastal development. However, there is little information about this issue for the estuaries of Alabama. The information from this study is critical to developing a prudent management strategy which protects sea turtles while sustaining the productivity of the fisheries. The proposed research is a prerequisite to determining if the estuaries of Alabama represent a developmental habitat for juvenile sea turtles.

The applicant proposes to: (1) Identify potential foraging areas by conducting sampling surveys, and measuring and tagging all captured turtles, (2) Perform radio tracking on some of the turtles to determine short term movements, home range, and identify foraging areas, (3) Collect samples of fecal and stomach materials in order to identify and document the diets of juvenile turtles, (4) Collect blood samples to estimate of sex ratio. Modification #1 would extend the permit expiration date from February 28, 2001 to February 28, 2003.

Dated: December 11, 2000.
Wanda L. Cain,
Chief, Endangered Species Division, Office of Protected Resources, National Marine Fisheries Service.

[FR Doc. 00-31918 Filed 12-13-00; 8:45 am]

BILLING CODE: 3510-22 -S